DEPARTMENT OF COMMERCE

National Oceanic and Atmospheric Administration

RIN 0648-XJ47

Pacific Fishery Management Council; Public Meeting

AGENCY: National Marine Fisheries Service (NMFS), National Oceanic and Atmospheric Administration (NOAA), Commerce.

ACTION: Notice of public meetings.

SUMMARY: The Pacific Fishery Management Council's (Council)Coastal Pelagic Species Management Team (CPSMT) and Coastal Pelagic Species Advisory Subpanel (CPSAS) will hold a joint work session by telephone conference, which is open to the public, to develop recommendations for the September 2008 Council meeting.

DATES: The telephone conference will be held Tuesday, August 19, 2008, from 1 p.m. to 5 p.m. or when business for the day is completed.

ADDRESSES: A listening station will be available at the Pacific Fishery Management Council, Small Conference Room, 7700 NE Ambassador Place, Suite 101, Portland, OR 97220-1384; telephone: (503) 820-2280.

Council address: Pacific Fishery Management Council, 7700 NE Ambassador Place, Suite 101, Portland, OR 97220-1384.

FOR FURTHER INFORMATION CONTACT: Mr. Mike Burner, Coastal Pelagic Species Staff Officer, Pacific Fishery Management Council: (503) 820-2280.

SUPPLEMENTARY INFORMATION: The purpose of the work session is to review the proposed rule on revisions to National Marine Fishery Service guidelines for National Standard 1 of the Magnuson-Stevens Fishery Conservation and Management Act and other available information for the Council's September meeting briefing book and to develop comments and recommendations for consideration at the September 2008 Council meeting.

Although non-emergency issues not contained in the meeting agenda may be discussed, those issues may not be the subject of formal action during this meeting. CPSMT and CPSAS actions will be restricted to those issues specifically listed in this notice and any issues arising after publication of this notice that require emergency action under section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: July 29, 2008.
Tracey L. Thompson,
Acting Director, Office of Sustainable Fisheries, National Marine Fisheries Service.

[FR Doc. E8-17643 Filed 7-31-08; 8:45 am]

BILLING CODE 3510-22-S